DEPARTMENT OF COMMERCE

National Oceanic and Atmospheric Administration

[I.D. 071101G]

North Pacific Fishery Management Council; Public Meeting

AGENCY: National Marine Fisheries Service (NMFS), National Oceanic and Atmospheric Administration (NOAA), Commerce.

ACTION: Notice of committee meeting.

SUMMARY: The North Pacific Fishery Management Council’s (Council) committee formed to study reasonable and prudent alternatives (RPAs) for Steller sea lion protection in Alaska fisheries will meet in Juneau, AK.

DATES: The meeting will be held on August 23-24, 2001. The meeting will begin at 8 a.m. on Thursday, August 23rd, and continue on Friday, August 24th.

ADDRESSES: The meeting will be held at the Federal Building, 709 W. 9th Street, in the NMFS Conference Room, 4th Floor, Juneau, AK.

Council address: North Pacific Fishery Management Council, 605 W. 4th Ave., Suite 306, Anchorage, AK 99501-2252.

FOR FURTHER INFORMATION CONTACT: David Witherell, NPFMC, 907-271-2809.

SUPPLEMENTARY INFORMATION: The purpose of the meeting is to:

1. Review the draft Environmental Impact Statement and Biological Opinion;

2. Consider possible Gulf of Alaska pollock season date changes and apportionments of Total Allowable Catch; and

3. Recommend any modifications to the Committee’s preferred alternative for an area and fishery-specific approach, if necessary.

Although non-emergency issues not contained in this agenda may come before this group for discussion, those issues may not be the subject of formal action during this meeting. Action will be restricted to those issues specifically identified in this notice and any issues arising after publication of this notice that require emergency action under section 305 (c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: July 13, 2001.
Richard W. Surdi,
Acting Director, Office of Sustainable Fisheries, National Marine Fisheries Service.

[FR Doc. 01-18831 Filed 7-26-01; 8:45 am]

BILLING CODE 3510-22-S